Executive Order 13324 of January 15, 2004

Termination of Emergency With Respect to Sierra Leone and Liberia

By the authority vested in me as President by the Constitution and the laws of the United States, including the International Emergency Economic Powers Act (50 U.S.C. 1701 et seq.), the National Emergencies Act (50 U.S.C. 1601 et seq.) (NEA), and section 5 of the United Nations Participation Act of 1945, as amended (22 U.S.C. 287c),

I, GEORGE W. BUSH, President of the United States of America, find that the situations that gave rise to the declaration of a national emergency in Executive Order 13194 of January 18, 2001, with respect to Sierra Leone and the expansion of the scope of that emergency in Executive Order 13213 of May 22, 2001, with respect to Liberia, have been significantly altered given that in January 2002 the Government of Sierra Leone, the Sierra Leonean rebel group Revolutionary United Front (RUF), and the United Nations Mission in Sierra Leone declared the war in Sierra Leone to have ended; the parties to the Liberian civil war entered into a Comprehensive Peace Agreement in August 2003; the RUF no longer exists as a military organization; Charles Taylor, who was the prime instigator of violence both in Sierra Leone and in Liberia, has resigned from the Liberian presidency and gone into exile; the Government of Sierra Leone has established a rough diamond certification regime that meets the minimum standards of the Kimberley Process Certification Scheme; and the United States has implemented the Clean Diamond Trade Act (Public Law 108-19), prohibiting the importation into the United States of rough diamonds that are not controlled through the Kimberley Process Certification Scheme, currently including rough diamonds from Liberia. Accordingly, I hereby terminate the national emergency declared and expanded in scope in those two prior orders, revoke those orders, and further order:

Section 1. Pursuant to section 202 of the NEA (50 U.S.C. 1622), termination of the national emergency declared in Executive Order 13194 and expanded in scope in Executive Order 13213 shall not affect any action taken or proceeding pending not finally concluded or determined as of the effective date of this order, or any action or proceeding based on any act committed prior to such date, or any rights or duties that matured or penalties that were incurred prior to such date.

Sec. 2. This order is not intended to, and does not, create any right or benefit, substantive or procedural, enforceable at law or in equity by any party against the United States, its departments, agencies, instrumentalities, or entities, its officers or employees, or any other person.

Sec. 3. This order is effective at 12:01 a.m. eastern standard time on January 16, 2004. This order shall be transmitted to the Congress and published in the Federal Register.

B

THE WHITE HOUSE,

January 15, 2004.

[FR Doc. 04-1322

Filed 1-16-04; 11:38 am]

Billing code 3195-01-P